DEPARTMENT OF COMMERCE

International Trade Administration

A-337-806

IQF Red Raspberries from Chile: Final Results of Sunset Review and Revocation of Order

AGENCY: Import Administration, International Trade Administration, Department of Commerce.

SUMMARY: On June 1, 2007, the Department of Commerce (Department) initiated this sunset review of the antidumping duty order on IQF red raspberries from Chile (72 FR 30544). Because the domestic interested parties did not participate in this review, the Department is revoking this antidumping duty order.

EFFECTIVE DATE: July 9, 2007

FOR FURTHER INFORMATION CONTACT: Nancy Decker or Brandon Farlander, Import Administration, International Trade Administration, U.S. Department of Commerce, 14th Street and Constitution Avenue, NW, Washington, DC 20230; telephone: (202) 482-0196 or (202) 482-0182, respectively.

SUPPLEMENTARY INFORMATION:

Background

On July 9, 2002, the Department issued an antidumping duty order on IQF red raspberries from Chile. See Notice of Antidumping Duty Order: IQF Red Raspberries from Chile, 67 FR 45460 (July 9, 2002). On June 1, 2007, the Department initiated a sunset review of this order. See Initiation of Five-year (Sunset) Reviews, 72 FR 30544, 30545 (June 1, 2007).

We did not receive a notice of intent to participate from domestic interested parties in this sunset review by the deadline date. As a result, the Department determined that no domestic interested party intends to participate in the sunset review, and on June 21, 2007, we notified the International Trade Commission, in writing, that we intended to issue a final determination revoking this antidumping duty order. See 19 CFR 351.218(d)(1)(iii)(B)(1) and (B)(2).

Scope of the Order

The products covered by this order are imports of IQF whole or broken red raspberries from Chile, with or without the addition of sugar or syrup, regardless of variety, grade, size or horticulture method (e.g., organic or not), the size of the container in which packed, or the method of packing. The scope of the order excludes fresh red raspberries and block frozen red raspberries (i.e., puree, straight pack, juice stock, and juice concentrate).

The merchandise subject to this order is currently classifiable under subheading 0811.20.2020 of the Harmonized Tariff Schedule of the United States (“HTSUS”). Although the HTSUS subheading is provided for convenience and customs purposes, the written description of the merchandise under the order is dispositive.

Determination to Revoke

Pursuant to section 751(c)(3)(A) of the Tariff Act of 1930, as amended (the Act), and 19 CFR 351.218(d)(1)(iii)(B)(3), if no domestic interested party files a notice of intent to participate, the Department shall, within 90 days after the initiation of the review, issue a final determination revoking the order. Because the domestic interested parties did not file a notice of intent to participate in this sunset review, the Department finds that no domestic interested party is participating in this sunset review. Therefore, we are revoking this antidumping duty order. The effective date of revocation is July 9, 2007, the fifth anniversary of the date the Department published this antidumping duty order. See 19 CFR 351.222(i)(2)(i).

Effective Date of Revocation

Pursuant to section 751(c)(3)(A) of the Act and 19 CFR 351.222(i)(2)(i), the Department will instruct U.S. Customs and Border Protection to terminate the suspension of liquidation of the merchandise subject to this order entered, or withdrawn from warehouse, on or after July 9, 2007. Entries of subject merchandise prior to the effective date of revocation will continue to be subject to suspension of liquidation and antidumping duty deposit requirements. The Department will complete any pending administrative reviews of this order and will conduct administrative reviews of subject merchandise entered prior to the effective date of revocation in response to appropriately filed requests for review.

This five-year (sunset) review and notice are in accordance with sections 751(c) and 777(i)(1) of the Act.

Dated: July 13, 2007.
Jose ph A. Spetrini,
Deputy Assistant Secretary for Import Administration.

[FR Doc. E7-14085 Filed 7-19-07; 8:45 am]

BILLING CODE 3510-DS-S